ENVIRONMENTAL PROTECTION AGENCY

[EPA-HQ-OPP-2005-0231; FRL-9384-5]

Metaldehyde; Amendment To Terminate Uses

AGENCY: Environmental Protection Agency (EPA).

ACTION: Notice.

SUMMARY: This notice announces EPA's order for the amendment to terminate uses, voluntarily requested by the registrant and accepted by the Agency, of a product containing metaldehyde, pursuant to the Federal Insecticide, Fungicide, and Rodenticide Act (FIFRA). This order follows a March 23, 2012 Federal Register Notice of Receipt of a Request from the registrant listed in Table 2 of Unit II. to voluntarily amend to terminate uses of this product registration. This is not the last product containing this pesticide registered for use in the United States. In the March 23, 2012 notice, EPA indicated that it would issue an order implementing the amendment to terminate uses, unless the Agency received substantive comments within the 180-day comment period that would merit its further review of these requests, or unless the registrant withdrew its request. The Agency received comments on the notice but none merited its further review of the requests. Further, the registrant did not withdraw its request. Accordingly, EPA hereby issues in this notice a cancellation order granting the requested amendment to terminate uses. Any distribution, sale, or use of the products subject to this cancellation order is permitted only in accordance with the terms of this order, including any existing stocks provisions.

DATES: The amendment is effective July 3, 2013.

FOR FURTHER INFORMATION CONTACT: Jill Bloom, Pesticide Re-Evaluation Division (7508P), Office of Pesticide Programs, Environmental Protection Agency, 1200 Pennsylvania Ave. NW., Washington, DC 20460-0001; telephone number: (703) 308-8019; fax number: (703) 308-8005; email address: bloom.jill@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2005-0231, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the amendment to terminate uses, as requested by the registrant of a product registered under FIFRA section 3. The EPA registration number and product name are shown in Table 1 of this unit.

Table 2—Metaldehyde Product Registration Amendment To Delete Uses
EPA Registration No. | Product name | Uses deleted—all but the following:
6836-107 | Lonza Meta Metaldehyde Technical Molluscicide | Artichokes, blueberries, caneberries (bingleberry, black raspberry, blackberry, boysenberry, dewberry, lowberry, marionberry, olallieberry, red raspberry, youngberry) and other berries (currant, elderberry, gooseberry, huckleberry, loganberry, lingonberry, juneberry, salal), citrus, lettuce, cole crops and other leafy greens (broccoli, Brussels sprouts, cabbage, cauliflower, cavalo broccolo, collards, kale, kohlrabi, mizuna, mustard greens, mustard spinach, rape greens), grass grown for seed, ornamentals, prickly pear cactus, tomato, strawberry, watercress, and use sites with directions for use in state and/or Federal invasive mollusk eradication operations.

Table 2 of this unit includes the names and address of record for the registrant of the product in Table 1 of this unit, in sequence by EPA company number. The company number corresponds to the first part of the EPA registration number of the product listed above.

Table 3—Registrants of Amended Products
EPA company No. | Company name and address
6836 | Lonza, Inc. 90 Boroline Road Allendale, NJ 07401

III. Summary of Public Comments Received and Agency Response to Comments

A summary of the public comments in response to March 23, 2013 notice and the Agency's responses to those comments are provided below.

IR-4 Project Headquarters at Rutgers University (IR-4) requested that certain uses for which the registrant has requested termination remain registered. IR-4 submitted a petition (PP#2E8070) on July 30, 2012, in support of proposed tolerances for grass grown for seed, leaf petioles, peppermint, spearmint, wetland, Caneberry subgroup 13-07A, Bushberry subgroup 13-07B and Berry low growing subgroup 13-07G. IR-4 noted that, since the petition is currently under review by the Agency, it would be most efficient to maintain the registrations until the data have been evaluated. IR-4 also noted that it is currently conducting residue studies in support of minor uses of metaldehyde on legume subgroups 6A, 6B, and 6C, ginseng, and Pacific Northwest only uses on wheat and root vegetables, in addition to completing a residue study supporting the use on clover grown for seed. IR-4 is requesting that these uses also be retained. Finally, IR-4 requests clarification on whether or not use is permitted on ornamentals in greenhouses, hoophouses, and other indoor production structures.

Oregon State University commented that losing the use of metaldehyde on the crops included in the IR-4 petition and the ongoing residue studies would negatively impact slug and snail management in Oregon, and that growers would be likely to suffer significant economic losses if metaldehyde was no longer an option for control of these pests.

Virginia Polytechnic Institute and State University, University of Delaware, and the Pennsylvania State University commented on the need for metaldehyde to control slugs in the Mid-Atlantic region, particularly on corn, soybean, canola, and other field crops. All three commenters indicated that while the increased adoption of no-till cultural practices has many advantages for the grower and the environment, reduced tillage can result in increased slug populations. Pest pressure may cause farmers to return to conventional tillage, with its potential for increased run-off into the Chesapeake Bay. Additionally, the use of the highly toxic carbamate insecticide methomyl as a control for slugs has been increasing in the Mid-Atlantic States since the pest was added via a FIFRA Section 2(ee) recommendation from the manufacturer. One commenter expressed the view that that recent studies show methomyl to be of limited efficacy.

EPA response to all comments: Some of the uses the commenters have asked the Agency to retain have already been approved, including grass grown for seed, strawberries, blueberries, and caneberries and bushberries in the former commodity subgroups 13A and 13B, thus they need not be covered by this use termination order. The other uses that IR-4 and other commenters requested be retained have never been listed explicitly on the label for Registration Number 6836-107. That label was amended in 2012 to allow formulation only into products for use on sites determined to be eligible for reregistration and sites subsequently approved in registration or tolerance actions.

The metaldehyde uses that would be terminated based on the registrant's request have not undergone complete human health and ecological risk assessments, either during the course of reregistration or subsequently through registration or tolerance actions. The IR-4 program has developed or is developing residue data on some of the uses the commenters would like to have retained. The tolerance assessments for the uses of metaldehyde covered by the already submitted petition are scheduled to be complete in November 2013.

The risk concerns cited in the metaldehyde Reregistration Eligibility Decision include risks to wildlife. Until both the human health and ecological risk assessments are conducted for any uses other than those covered in Table 1 in Unit II, decisions on the registration of metaldehyde for other uses, including acceptable use parameters and directions for use, cannot be made.

The Agency acknowledges the particular role pesticides play in managing pest problems in no-till or reduced tillage farming, as well as the positive impact these farming systems can have on run-off and water quality. In order for the use of metaldehyde to be permitted in no-till/reduced tillage field crops, or any other use site mentioned by the commenters, a full Suite of data, covering both human health and ecological risk, must be submitted in support of an application to register that use. The decision to make such applications and to submit supporting data is typically made by the registrant, although other entities may take on those responsibilities. Thus the uses that the commenters would like to have retained could be approved in the future if the necessary steps to registration are undertaken.

While we acknowledge the value of metaldehyde in controlling slugs and snails, particularly outside of conventional tillage, we are unable at this time to approve the uses the commenters would like to retain. For this reason, the Agency does not believe that the comments submitted during the comment period merit denial of the requests for voluntary use deletion.

In response to the question about the use of metaldehyde on ornamentals, the Agency wishes to clarify that approved ornamental uses include ornamentals in greenhouses, hoophouses, and other indoor ornamentals production facilities, as well as outdoor plants.

To address concerns about the efficacy of methomyl for slugs, the Agency has notified the methomyl registrant about the new efficacy data from Delaware and is reviewing the information internally.

IV. Order for the Amendment To Terminate Uses

Pursuant to FIFRA section 6(f), EPA hereby approves the requested amendment to terminate uses of the metaldehyde registration identified in Table 1 of Unit II. Accordingly, the Agency hereby orders that the product registration identified in Table 1 of Unit II. is amended to terminate the affected uses. The effective date of the amendments that is the subject of this notice is July 3, 2013. Any distribution, sale, or use of existing stocks of the products identified in Table 1 of Unit II. in a manner inconsistent with any of the provisions for disposition of existing stocks set forth in Unit VI. will be a violation of FIFRA.

V. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment on March 23, 2012 (77 FR 17052-17055) (FRL-9342-6). The comment period closed on September 19, 2012.

VI. Provisions for Disposition of Existing Stocks

Existing stocks are those stocks of registered pesticide products which are currently in the United States and which were packaged, labeled, and released for shipment prior to the effective date of the action. The existing stocks provision for the products subject to this order is as follows.

Registrants are permitted to sell or distribute products listed in Table 1 of Unit II. under the previously approved labeling until July 3, 2014, a period of 12 months after publication of the cancellation order in this Federal Register, unless other restrictions have been imposed. Thereafter, registrants will be prohibited from selling or distributing the products whose labels include the deleted uses identified in Table 1 of Unit II., except for export consistent with FIFRA section 17 or for proper disposal.

Persons other than the registrant may sell, distribute, or use existing stocks of products whose labels include the deleted uses until supplies are exhausted, provided that such sale, distribution, or use is consistent with the terms of the previously approved labeling on, or that accompanied, the deleted uses.

List of Subjects

Environmental protection, Pesticides and pests.

Dated: June 21, 2013.
Richard P. Keigwin, Jr.,
Director, Pesticide Re-Evaluation Division, Office of Pesticide Programs.

[FR Doc. 2013-16035 Filed 7-2-13; 8:45 am]

BILLING CODE 6560-50-P